DEPARTMENT OF COMMERCE

Foreign-Trade Zones Board

[Docket 11-2006]

Foreign-Trade Zone 207—Richmond, VA, Application for Subzone Status, A. Wimpfheimer & Bro., Inc., (Textile Finishing)

An application has been submitted to the Foreign-Trade Zones Board (the Board) by the Capital Region Airport Commission, grantee of FTZ 207, requesting special-purpose subzone status for the textile finishing plant of A. Wimpfhheimer & Bro., located in Blackstone, Virginia. The application was submitted pursuant to the provisions of the Foreign-Trade Zones Act, as amended (19 U.S.C. 81a-81u), and the regulations of the Board (15 CFR Part 400). It was formally filed on April 4, 2006.

The plant (6 acres/175,000 sq.ft.), known as the “American Velvet” property, is located at 300 Church Street, in the city of Blackstone, Virginia. The facility (30 employees) is used to process textile pile fabrics for the U.S. market and export. In this activity, foreign, quota-class woven and knit fabrics (classified under HTSUS 5801.22.1000, 5801.22.9000, 5801.23, 5801.35.0010, 5801.35.0020, 5907.00.6000, 6001.92.2000, 6001.92.0020; 6001.92.0040, 6004.10.0085) would be admitted to the proposed subzone under privileged foreign status (19 CFR § 146.41) in greige form to be processed, dyed, and finished using domestic dyes and chemicals. The finishing activity may involve shrinking, sanferizing, desizing, sponging, bleaching, cleaning/laundering, calendaring, hydroxilating, decatizing, fulling, mercerizing, chintzing, moiring, framing/beaming, stiffening, weighting, crushing, tubing, thermofixing, anti-microbial finishing, flame retardation, and embossing the foreign-sourced fabric. The finished privileged foreign status fabric would either be exported from the proposed subzone or be transferred for Customs entry under its original HTSUS and textile quota classifications (no activity would be permitted that would result in transformation, tariff shift, or change in quota class or country of origin), with appropriate duty assessment and quota decrement (if applicable).

FTZ procedures would exempt Wimpfhheimer from Customs duty payments on the foreign fabric processed for re-export. On shipments for the U.S. market, full duty payment would be deferred until the fabric is transferred from the zone for Customs entry. The application indicates that the savings from FTZ procedures would help improve the facility's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building Suite 4100W, 1099 14th Street, NW, Washington, DC 20005; or,

2. Submissions via the U.S. Postal Service: Foreign-Trade Zones Board, U.S. Department of Commerce, FCB 4100W, 1401 Constitution Ave., NW, Washington, DC 20230.

The closing period for their receipt is June 13, 2006. Rebuttal comments in response to material submitted during the foregoing period may be submitted during the subsequent 15-day period (to June 28, 2006).

A copy of the application will be available for public inspection at the Office of the Foreign-Trade Zones Board's Executive Secretary at address No.1 listed above and at the U.S. Department of Commerce Export Assistance Center, 400 North 8th Street, No. 412, Richmond, VA 23240.

Dated: April 4, 2006.
Dennis Puccinelli,
Executive Secretary.

[FR Doc. E6-5602 Filed 4-13-06; 8:45 am]

BILLING CODE 3510-DS-S